DEPARTMENT OF COMMERCE

National Oceanic and Atmospheric Administration

RIN 0648-XT73

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Portland, OR.

DATES: The meetings will be held February 8-16, 2010. The Council will begin its plenary session at 8 a.m. on Wednesday, February 10 continuing through Tuesday, February 16. The Council's Advisory Panel (AP) will begin at 8 a.m., Monday, February 8 and continue through Friday, February 12. The Scientific and Statistical Committee (SSC) will begin at 8 a.m. on Monday, February 8 and continue through Wednesday, February 10, 2010. The Enforcement Committee will meet Tuesday, February 9 from 1 p.m. to 5 p.m. All meetings are open to the public, except executive sessions.

ADDRESSES: The meetings will be held at the Benson Hotel, 309 SW Broadway, Portland, OR 97205.

Council address: North Pacific Fishery Management Council, 605 W. 4th Avenue, Suite 306, Anchorage, AK 99501-2252.

FOR FURTHER INFORMATION CONTACT: David Witherell, Council staff, telephone: (907) 271-2809.

SUPPLEMENTARY INFORMATION: Council Plenary Session: The agenda for the Council's plenary session will include the following issues. The Council may take appropriate action on any of the issues identified.

1. Reports:

a. Executive Director's Report (including report on catch shares and marine spatial planning)

b. NMFS Management Report

c. Alaska Department of Fish and Game (ADF&G) Report

d. International Pacific Halibut Commission (IPHC) Report

e. U.S. Coast Guard Report

f. NMFS Enforcement Report/Alaska Fisheries Science Center (AFSC) Report

g. U.S. Fish & Wildlife Service Report

h. Protected Species Report (including update on Biological Opinion and Center for Independent Experts review and seabird update)

2. Halibut/Sablefish Individual Fishing Quotas (IFQs) Program: Review proposals, receive committee report, and take action as necessary; review discussion paper on Community Quota Entity Program.

3. Observer Program: Progress on Implementation Plan; Progress on Implementation Plan; Observer Advisory Committee report.

4. Bering Sea Aleutian Island (BSAI) Crab Issues: Initial review BSAI Crab Right of First Refusal; Initial review Western Aleutian Golden King Crab Regional Delivery; NOAA/Bering Sea Fisheries Foundation cooperative survey report; review methodology for Annual Catch Limits (ACLs) analysis and performance measures for rebuilding (SSC only).

5. Groundfish ACLs: Initial review of Groundfish ACL requirements.

6. Amendment 80 Cooperatives: Initial review of Amendment 80 Lost Vessel Replacement; Final action Amendment 80 Cooperative Formation.

7. Gulf of Alaska (GOA) Rockfish Program: Receive 2009 Cooperative Report; Refine alternatives for analysis.

8. American Fisheries Act (AFA): Receive 2009 Cooperative reports and 2010 Cooperative agreements.

9. Data Collection Discussion paper: Review discussion paper and take action as necessary.

10. Miscellaneous Issues: Review of analytical methods for BSAI Chum salmon bycatch (SSC only); review new area closure options for chum salmon bycatch alternatives; review preliminary Essential Fish Habitat (EFH) report (SSC only); review and adopt Habitats Areas of Particular Concern (HAPC) criteria and schedule; report and action as necessary on Aleutian Island Fishery Ecosystem Plan Addendum; review discussion paper on stranding of BSAI Pacific cod total allowable catch (T); review discussion paper on halibut PSC limits (T).

11. Staff Tasking: Review Committees and tasking.

12. Other Business

The SSC agenda will include the following issues:

1. C-5 (a) Amendment 80 Lost Vessel replacement

2. C-3 (a, b, c, d) BSAI Crab Issues

3. C-4 Groundfish ACLs

4. D-2 Data Collection

5. D-3(a, b, c) Groundfish Issues

6. National Standard 2 Guidelines

The Advisory Panel will address most of the same agenda issues as the Council, except for # 1 reports. The Agenda is subject to change, and the latest version will be posted at http://www.alaskafisheries.noaa.gov/npfmc/

Although non-emergency issues not contained in this agenda may come before the Council for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: January 8, 2010.
William D. Chappell,
Acting Director, Office of Sustainable Fisheries, National Marine Fisheries Service.

[FR Doc. 2010-492 Filed 1-13-10; 8:45 am]

BILLING CODE 3510-22-S